DEPARTMENT OF ENERGY

Federal Energy Regulatory Commission

[Docket No. CP20-48-000]

Iroquois Gas Transmission System, L.P.; Notice of Revised Schedule for Environmental Review of the Enhancement by Compression Project

This notice identifies the Federal Energy Regulatory Commission staff's revised schedule for the completion of the environmental impact statement (EIS) for Iroquois Gas Transmission System, L.P.'s (Iroquois) Enhancement by Compression Project. The Notice of Intent to Prepare an Environmental Impact Statement for the Proposed Enhancement by Compression Project and Schedule for Environmental Review, issued on May 27, 2021, identified September 3, 2021 as the final EIS issuance date. However, we are modifying this issuance date because of the number and complexity of comments received on the draft EIS. Further, staff will require additional information from Iroquois to respond to several of these comments in the final EIS, and is currently preparing a data request to obtain that information.

Schedule for Environmental Review

Issuance of the final EIS—November 12, 2021

90-day Federal Authorization Decision Deadline—February 9, 2022

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP20-48), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 2, 2021.
Kimberly D. Bose,
Secretary.

[FR Doc. 2021-19456 Filed 9-7-21; 8:45 am]

BILLING CODE 6717-01-P